DEPARTMENT OF DEFENSE

Office of the Secretary

Proposed Collection; Comment Request

AGENCY: Defense Logistics Agency, Defense Reutilization and Marketing Service, DoD.

ACTION: Notice.

In compliance with section 3506(c)(2)(A) of the Paperwork Reduction Act of 1995, the Defense Logistics Agency, Defense Reutilization and Marketing Service (DRMS) announces the proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 3, 2003.

ADDRESSES: Written comments and recommendations on the proposed information collection should be sent to the Commander, Defense Reutilization and Marketing Service, Attn: Ms. Nancy Olson-Butler, 74 Washington Ave., N., Battle Creek, MI 49017-3092.

FOR FURTHER INFORMATION CONTACT: To request more information on this proposed information collection or to obtain a copy of the proposal and associated collection instruments, please write to the above address, or call DRMS, Office of Corporate Planning, at (616) 961-7433.

Title; Associated Form; and OMB Number: Defense Reutilization and Marketing Service Customer Comment Card.

Needs and Uses: The information collection requirement is necessary to obtain customer rating and comments on the service of a Defense Reutilization and Marketing store.

Affected Public: Individuals; Business or other for profit; Not-for-profit institutions.

Annual Burden Hours: 100.

Number of Respondents: 400.

Responses per Respondent: 1.

Average Burden per Response: 15 minutes.

Frequency: On occasion.

SUPPLEMENTARY INFORMATION:

Summary of Information Collection

Respondents are customers who obtain, or visit a store to obtain, surplus or excess property. The customer comment card is a means for customers to rate and comment on DRMS Facilities, Receipt/Store/Issue services, Reutilization/Transfer/Donation services, Demil services, Environmental services, Usable property sales, and scrap sales. The completed card is an agent for service improvement and determining whether there is a systemic problem.

Dated: March 27, 2003.
Patricia L. Toppings,
Alternate OSD Federal Register Liaison Officer, Department of Defense.

[FR Doc. 03-8208 Filed 4-3-03; 8:45 am]

BILLING CODE 5001-08-M